DEPARTMENT OF HOMELAND SECURITY

Coast Guard

[USCG-2003-14496]

Information Collection Under Review by the Office of Management and Budget (OMB): OMB Control Numbers 1625-0063 (formerly 2115-0586), 1625-0014 (formerly 2115-0053), 1625-0009 (formerly 2115-0025), and 1625-0002 (formerly 2115-0007)

AGENCY: Coast Guard, DHS.

ACTION: Notice and request for comments.

SUMMARY: In compliance with the Paperwork Reduction Act of 1995, this request for comments announces that the Coast Guard has forwarded the four Information Collection Requests (ICRs) abstracted below to the Office of Information and Regulatory Affairs (OIRA) of the Office of Management and Budget (OMB) for review and comment. Our ICRs describe the information we seek to collect from the public. Review and comment by OIRA ensures that we impose only paperwork burdens commensurate with our performance of duties.

DATES: Please submit comments on or before August 25, 2003.

ADDRESSES: To make sure that your comments and related material do not enter the docket [USCG 2003-14496] more than once, please submit them by only one of the following means:

(1)(a) By mail to the Docket Management Facility, U.S. Department of Transportation, room PL-401, 400 Seventh Street SW., Washington, DC 20590-0001. (b) By mail to OIRA, 725 17th Street NW., Washington, DC 20503, to the attention of the Desk Officer for the Coast Guard. Caution: Because of recent delays in the delivery of mail, your comments may reach the Facility more quickly if you choose one of the other means described below.

(2)(a) By delivery to room PL-401 at the address given in paragraph (1)(a) above, between 9 a.m. and 5 p.m., Monday through Friday, except Federal holidays. The telephone number is 202-366-9329. (b) By delivery to OIRA, at the address given in paragraph (1)(b) above, to the attention of the Desk Officer for the Coast Guard.

(3) By fax to (a) the Facility at 202-493-2251 and (b) OIRA at 202-395-5806, or e-mail to OIRA at oira_docket@omb.eop.gov attention: Desk Officer for the Coast Guard.

(4)(a) Electronically through the Web Site for the Docket Management System at http://dms.dot.gov. (b) OIRA does not have a website on which you can post your comments.

(5) Electronically through Federal eRule Portal: http://www.regulations.gov.

The Facility maintains the public docket for this notice. Comments and material received from the public, as well as documents mentioned in this notice as being available in the docket, will become part of this docket and will be available for inspection or copying at room PL-401 (Plaza level), 400 Seventh Street SW., Washington, DC, between 9 a.m. and 5 p.m., Monday through Friday, except Federal holidays. You may also find this docket on the Internet at http://dms.dot.gov.

Copies of the complete ICRs are available for inspection and copying in public dockets. They are available in docket USCG 2003-14496 of the Docket Management Facility between 10 a.m. and 5 p.m., Monday through Friday, except Federal holidays; for inspection and printing on the internet at http://dms.dot.gov; and for inspection from the Commandant (G-CIM-2), U.S. Coast Guard, room 6106, 2100 Second Street SW., Washington, DC, between 10 a.m. and 4 p.m., Monday through Friday, except Federal holidays.

FOR FURTHER INFORMATION CONTACT: Barbara Davis, Office of Information Management, 202-267-2326, for questions on this document; Dorothy Beard, Chief, Documentary Services Division, U.S. Department of Transportation, 202-366-5149, for questions on the docket.

SUPPLEMENTARY INFORMATION:

Public Participation and Request for Comments

We encourage you to participate in this request for comment by submitting comments and related materials. We will post all comments received, without change, to http://dms.dot.gov, and they will include any personal information you have provided. We have an agreement with DOT to use the Docket Management Facility. Please see DOT's “Privacy Act” paragraph below.

Submitting comments: If you submit a comment, please include your name and address, identify the docket number for this request for comment [USCG-2003-14496], indicate the specific section of this document to which each comment applies, and give the reason for each comment. You may submit your comments and material by electronic means, mail, fax, or delivery to the Docket Management Facility at the address under ADDRESSES but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period. We may change this proposed rule in view of them.

Viewing comments and documents: To view comments, as well as documents mentioned in this preamble as being available in the docket, go to http://dms.dot.gov at any time and conduct a simple search using the docket number. You may also visit the Docket Management Facility in room PL-401 on the Plaza level of the Nassif Building, 400 Seventh Street SW., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 [65 FR 19477], or you may visit http://dms.dot.gov.

Regulatory History

This request constitutes the 30-day notice required by OIRA. The Coast Guard has already published (68 FR 8324, February 20, 2003) the 60-day notice required by OIRA. That notice elicited no comments.

Request for Comments

The Coast Guard invites comments on the proposed collections of information to determine whether the collections are necessary for the proper performance of the functions of the Department. In particular, the Coast Guard would appreciate comments addressing: (1) the practical utility of the collections; (2) the accuracy of the Department's estimated burden of the collections; (3) ways to enhance the quality, utility, and clarity of the information that is the subject of the collections; and (4) ways to minimize the burden of collection on respondents, including the use of automated collection techniques or other forms of information technology.

Comments, to DMS or OIRA, must contain the OMB Control Number of the ICR addressed. Comments to DMS must contain the docket number of this request, USCG 2003-14496. Comments to OIRA are best assured of having their full effect if OIRA receives them 30 or fewer days after the publication of this request.

Information Collection Request

1. Title: Marine Occupational Health and Safety Standards for Benzene—46 CFR Part 197, Subpart C.

OMB Control Number: 1625-0063.

Type of Request: Extension of a currently approved collection.

Affected Public: Owners and operators of vessels.

Form: This collection of information does not require the public to fill out forms, but does require that information collected be maintain and made available for Coast Guard inspection.

Abstract: To protect marine workers from exposure to toxic benzene vapor, the Coast Guard implemented 46 CFR Part 197, Subpart C.

Annual Estimated Burden Hours: The estimated burden is 59,766 hours a year.

2. Title: Request for Designation and Exemption of Oceanographic Research Vessels.

OMB Control Number: 1625-0014.

Type of Request: Extension of a currently approved collection.

Affected Public: Owners or operators of vessels.

Form: This collection of information does not require the public to fill out forms, but does require the information to be in written format to the Coast Guard.

Abstract: 46 U.S.C. 2113 authorizes the Secretary of Transportation to exempt Oceanographic Research Vessels, by rule, from certain parts of Subtitle II of Title 46, Shipping, of the United States Code, concerning vessels and seamen. This information is necessary to ensure that a vessel qualifies for exemption.

Annual Estimated Burden Hours: The estimated burden is 21 hours a year.

3. Title: Oil Record Book for Ships.

OMB Control Number: 1625-0009.

Type of Request: Extension of a currently approved collection.

Affected Public: Operators of vessels.

Form: CG-4602A.

Abstract: The Act to Prevent Pollution from Ships (APPS) and the International Convention for Prevention of Pollution from Ships, 1973, as modified by the 1978 Protocol relating thereto (MARPOL 73/78), require the entry into an Oil Record Book (CG-4602A) of information about oil carried as cargo or fuel. The maintenance of the Book constitutes the collection of information. The requirement for it appears at 33 CFR 151.25.

Annual Estimated Burden Hours: The estimated burden is 29,048 hours a year.

4. Title: Application for Vessel Inspection and Waiver.

OMB Control Number: 1625-0002.

Type of Request: Extension of a currently approved collection.

Affected Public: Owners, operators, agents, or masters of vessels, or interested Federal agencies.

Form: CG-2633 and CG-3752.

Abstract: The collection of information requires the owner, operator, agent, or master of a vessel to apply in writing to the Coast Guard before the commencement of the inspection for certification, or when, in the interest of national defense, a waiver from the requirements of navigation and vessel inspection seems desirable

Annual Estimated Burden Hours: The estimated burden is 677 hours a year.

Dated: July 17, 2003.
Clifford I. Pearson,
Director of Information and Technology.

[FR Doc. 03-18922 Filed 7-24-03; 8:45 am]

BILLING CODE 4910-15-P